DEPARTMENT OF AGRICULTURE

Grain Inspection, Packers and Stockyards Administration

Opportunity for Designation in the Amarillo, TX; Cairo, IL; and State of North Carolina Areas

AGENCY: Grain Inspection, Packers and Stockyards Administration, USDA.

ACTION: Notice.

SUMMARY: The designations of Amarillo Grain Exchange, Inc. (Amarillo); Cairo Grain Inspection Agency, Inc. (Cairo); and North Carolina Department of Agriculture (North Carolina) official agencies will end on September 30, 2010. In the March 31, 2010, Federal Register (71 FR 16068), GIPSA asked for applications from persons or governmental agencies interested in providing official services in the areas. Applications were due on or before April 30, 2010; GIPSA received no applications. GIPSA is again asking for applications from persons or governmental agencies interested in providing official services in the Amarillo, TX; Cairo, IL; and State of North Carolina Areas.

DATES: Applications are due on or before July 26, 2010.

ADDRESSES: Submit applications concerning this notice using only one of the following methods:

• Internet: Apply using FGISonline. (https://fgis.gipsa.usda.gov/default_home_FGIS.aspx) by clicking on the Delegations/Designations and Export Registrations (DDR) link. You will need to obtain an FGISonline customer number and USDA eAuthentication username and password prior to applying.

• Hand Delivery/Courier Address: Karen W. Guagliardo, Review Branch Chief, Compliance Division, GIPSA, USDA, Room 1647-S, 1400 Independence Avenue, SW., Washington, DC 20250.

• Mail: Karen W. Guagliardo, Review Branch Chief, Compliance Division, GIPSA, USDA, STOP 3604, 1400 Independence Avenue, SW., Washington, DC 20250-3604.

Read Applications: All applications will be available for public inspection at the office above during regular business hours (7 CFR 1.27(c)).

FOR FURTHER INFORMATION CONTACT: Karen W. Guagliardo, 202-720-7312 or Karen.W.Guagliardo@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

Amarillo

Pursuant to section 7(f)(2) of the Act, the following geographic areas, in the States of Oklahoma and Texas are assigned to this official agency:

In Texas:

• Bounded on the North by the Texas-Oklahoma State line;

• Bounded on the East by the eastern Texas-Oklahoma State line south to the Childress County line;

• Bounded on the South by the southern Childress County line to the western Childress County line north to U.S. Route 287; U.S. Route 287 northwest to Donley County; the southern Donley and Armstrong County lines west to Prairie Dog Town Fork of the Red River; Prairie Dog Town Fork of the Red River northwest to State Route 217; State Route 217 west to FM 1062; FM 1062 west to U.S. Route 385; U.S. Route 385 north to the southern Oldham County west; and

• Bounded on the West by the western Oldham, Hartley, and Dallam County lines.

In Oklahoma:

• Beaver, Cimarron, and Texas Counties.

Cairo

Pursuant to section 7(f)(2) of the Act, the following geographic areas, in the States of Illinois, Kentucky, and Tennessee are assigned to this official agency:

In Illinois:

• Bounded on the North from State Route 150 at the Mississippi River north to State Route 3; State Route 3 southeast to State Route 149; State Route 149 east to State Route 13; State Route 13 southeast to U.S. Route 51; U.S. Route 51 south to the northern Union County line; northern Union County east to the Ohio River;

• Bounded on the East by the Ohio River;

• Bounded on the South by the Ohio River west to the Mississippi River; and

• Bounded on the West by the Mississippi River north to State Route 150.

In Kentucky:

• Ballard, McCracken, Livingston, Lyon, Trigg, Calloway, Marshall, Graves, Fulton, Hickman, and Carlisle Counties.

In Tennessee:

• Lake, Obion, Weakley, Henry, Stewart, Montgomery, Dickson, Houston, Benton, and Humphreys Counties.

The Cargill, Inc., grain elevator in Tiptonville, Lake County, Tennessee, which is located within Cairo's assigned areas, is currently serviced, and will continue to be serviced by Midsouth Grain Inspection Service.

North Carolina

Pursuant to section 7(f)(2) of the Act, the entire State of North Carolina, except those export port locations within the State which are serviced by GIPSA, is assigned to this official agency.

Opportunity for Designation

Interested persons or governmental agencies may apply for designation to provide official services in the geographic areas specified above under the provisions of section 7(f) of the USGSA and 7 CFR 800.196(d). Designation in the specified geographic areas is for the period beginning October 1, 2010, and ending September 30, 2013. To apply for designation or for more information, contact Karen W. Guagliardo at the address listed above or visit GIPSA's Web site at http://www.gipsa.usda.gov.

We consider applications, comments, and other available information when determining which applicant will be designated.

Authority: 7 U.S.C. 71-87k.

J. Dudley Butler,
Administrator, Grain Inspection, Packers and Stockyards Administration.

[FR Doc. 2010-15458 Filed 6-24-10; 8:45 am]

BILLING CODE 3410-KD-P